FEDERAL COMMUNICATIONS COMMISSION

[DA 12-1912]

Notice of Debarment

AGENCY: Federal Communications Commission.

ACTION: Notice.

SUMMARY: The Enforcement Bureau (the “Bureau”) debars Mr. Willard Ross Lanham from the schools and libraries universal service support mechanism (or “E-Rate Program”) for a period of three years. The Bureau takes this action to protect the E-Rate Program from waste, fraud and abuse.

DATES: Debarment commences on the date Mr. Willard Ross Lanham receives the debarment letter or January 14, 2013, whichever date comes first, for a period of three years.

FOR FURTHER INFORMATION CONTACT: Joy M. Ragsdale, Federal Communications Commission, Enforcement Bureau, Investigations and Hearings Division, Room 4-A236, 445 12th Street SW., Washington, DC 20554. Joy Ragsdale may be contacted by phone at (202) 418-1697 or by email at Joy.Ragsdale@fcc.gov. If Ms. Ragsdale is unavailable, you may contact Ms. Theresa Cavanaugh, Chief, Investigations and Hearings Division, by telephone at (202) 418-1420 and by email at Terry.Cavanaugh@fcc.gov.

SUPPLEMENTARY INFORMATION: The Bureau debarred Mr. William Ross Lanham from the schools and libraries universal service support mechanism for a period of three years pursuant to 47 CFR 54.8. Attached is the debarment letter, DA 12-1912, which was mailed to Mr. William Ross Lanham and released on November 29, 2012. The complete text of the notice of debarment is available for public inspection and copying during regular business hours at the FCC Reference Information Center, Portal II, 445 12th Street SW., Room CY-A257, Washington, DC 20554, In addition, the complete text is available on the FCC's Web site at http://www.fcc.gov. The text may also be purchased from the Commission's duplicating inspection and copying during regular business hours at the contractor, Best Copy and Printing, Inc., Portal II, 445 12th Street SW., Room CY-B420, Washington, DC 20554, telephone (202) 488-5300 or (800) 378-3160, facsimile (202) 488-5563, or via email http://www.bcpiweb.com.

Federal Communications Commission.
Theresa Z. Cavanaugh,
Chief, Investigations and Hearings Division, Enforcement Bureau.

November 29, 2012

DA 12-1912

SENT VIA CERTIFIED MAIL, RETURN RECEIPT REQUESTED AND EMAIL

Mr. Willard Ross Lanham

c/o Stephen N. Preziosi

Law Office of Stephen N. Preziosi P.C.

570 Seventh Avenue, Ninth Floor

New York, NY 10018

Re: Notice of Debarment, File No. EB-12-IH-0847

Dear Mr. Lanham:

The Federal Communications Commission (Commission) hereby notifies you that, pursuant to Section 54.8 of its rules, you are prohibited from participating in activities associated with or relating to the schools and libraries universal service support mechanism (E-Rate program) for three years from either the date of your receipt of this Notice of Debarment or of its publication in the Federal Register, whichever is earlier in time (Debarment Date).¹

¹ 47 CFR 54.8(g); see also 47 CFR 0.111 (delegating authority to the Enforcement Bureau to resolve universal service suspension and debarment proceedings).

On July 27, 2012, the Commission's Enforcement Bureau (Bureau) sent you a Notice of Suspension and Initiation of Debarment Proceeding (Notice of Suspension) ² that was published in the Federal Register on August 13, 2012.³ The Notice of Suspension suspended you from participating in activities associated with or relating to the E-Rate program. It also described the basis for initiating debarment proceedings against you, the applicable debarment procedures, and the effect of debarment.

² Letter from Theresa Z. Cavanaugh, Chief, Investigations and Hearings Division, Enforcement Bureau, Federal Communications Commission to Willard Ross Lanham, Notice of Suspension and Initiation of Debarment Proceeding, 27 FCC Rcd 8384 (Enf. Bur. 2012) (Attachment 1).

³ 77 Fed. Reg. 48154 (Aug. 13, 2012).

As discussed in the Notice of Suspension, in March 2012 you were convicted of one count of theft of federal funds and three counts of mail fraud in connection with your activities as a consultant for the New York City Department of Education (DOE), which included managing Project Connect, an E-Rate funded project.⁴ As a DOE consultant, you defrauded the E-Rate program by, among other things, inflating consultant fees and bundling those charges with eligible services on invoices billed to DOE for work unrelated to Project Connect.⁵ As a result of your scheme, DOE was fraudulently billed more than $3.6 million for Project Connect between 2002 and 2008, of which you profited approximately $1.7 million.⁶ Pursuant to Section 54.8(c) of the Commission's rules, your conviction of criminal conduct in connection with the E-Rate program is the basis for this debarment.⁷

⁴ Supra n. 2 at 2.

⁵ Id. at 3.

⁶ Id.

⁷ 47 CFR 54.8(c).

In accordance with the Commission's debarment rules, you were required to file with the Commission any opposition to your suspension or its scope, or to your proposed debarment or its scope, no later than 30 calendar days from either the date of your receipt of the Notice of Suspension or of its publication in the Federal Register, whichever date occurred first.⁸ The Commission did not receive any such opposition from you.

⁸ 47 CFR 54.8 (e)(3), (4). Any opposition had to be filed no later than August 26, 2012.

For the foregoing reasons, you are debarred from participating in activities associated with or related to the E-Rate program for three years from the Debarment Date.⁹ During this debarment period, you are excluded from participating in any activities associated with or related to the E-Rate program, including the receipt of funds or discounted services through the E-Rate program, or consulting with, assisting, or advising applicants or service providers regarding the E-Rate program.¹⁰

⁹ Id. 54.8(e)(5), (g).

¹⁰ Id. 54.8(a)(1), (5), (d).

Sincerely,

Theresa Z. Cavanaugh,

Chief, Investigations and Hearings Division Enforcement Bureau.

cc: Johnnay Schrieber, Universal Service Administrative Company (via email), Rashann Duvall, Universal Service Administrative Company (via email), Brian A. Jacobs, U. S. Attorney's Office, Southern District of New York (via email), Alvin L. Bragg, Jr., U. S. Attorney's Office, Southern District of New York (via email), Paul M. Krieger, U. S. Attorney's Office, Southern District of New York (via email)

[FR Doc. 2012-30105 Filed 12-12-12; 8:45 am]

BILLING CODE 6712-01-P